DEPARTMENT OF HEALTH AND HUMAN SERVICES

Centers for Disease Control and Prevention

[30Day-21-21CG]

Agency Forms Undergoing Paperwork Reduction Act Review

In accordance with the Paperwork Reduction Act of 1995, the Centers for Disease Control and Prevention (CDC) has submitted the information collection request titled “A Longitudinal Examination of Mental and Physical Health among Police Associated with COVID-19” to the Office of Management and Budget (OMB) for review and approval. CDC previously published a “Proposed Data Collection Submitted for Public Comment and Recommendations” notice on January 26, 2021 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

A Longitudinal Examination of Mental and Physical Health among Police Associated with COVID-19—New—National Institute for Occupational Safety and Health (NIOSH), Centers for Disease Control and Prevention (CDC).

Background and Brief Description

Police officers are exposed to several stressors during their working lives, including traumatic events (e.g., motor-vehicle accidents, domestic incidents), organizational stressors (e.g., long work hours, shiftwork), public criticism, and concern about physical harm. On top of these day-to-day stressors, the coronavirus disease 2019 (COVID-19) has contributed to an increase in mental and physical risk. Although exact figures are not known, in April 2020, it was estimated that approximately 17% of the New York police department were out sick, and five officers had died. Over 1,000 police officers had tested positive for COVID-19. Since then, rates of COVID-19 have not only increased in the general population, but also in police populations. These preliminary studies indicate that police departments are under a great deal of stress and at greater risk because of COVID-19. Given that efficiently performing officers are key to successful functioning of law enforcement, addressing police mental and physical health is imperative for their well-being, as well as that of the public they serve. Nonetheless, little research has been conducted to evaluate the physical and mental health consequences of the COVID-19 pandemic on police officers. Thus, NIOSH seeks OMB approval to evaluate the longitudinal mental and physical health effect of the COVID-19 pandemic on police officers.

Previously, in collaboration with NIOSH, the University of New York at Buffalo (UB) conducted a cross-sectional research project to evaluate the mental, physical, and subclinical measures of health in the Buffalo, NY police officers as part of the Buffalo Cardio-Metabolic Occupational Police Stress (BCOPS) study. The BCOPS study itself includes a baseline examination and four follow-up examinations. For this reason, NIOSH has mental and physical health data on police officers, collected prior to COVID-19, including stress related surveys, blood parameters, physical measures, stress biomarkers (cortisol) and telomere length data.

To meet the aims of the current study NIOSH has contracted with UB to recruit 200 police officers who previously participated in a BCOPS study. Priority will be placed on recruiting officers who participated in the last BCOPS study (n=240). If 200 of the 240 officers cannot be recruited, then UB will try to recruit any officer who has previously participated in a BCOPS study. A subset of the surveys and biological data collected as part of the BCOPS studies will be repeated for this study. By comparing the responses of the surveys and physical data collected as part of BCOPS (prior to COVID-19), to those obtained during this study, NIOSH can evaluate the longitudinal physical and psychological health effects of COVID-19 on the police officers.

To meet the aims of this study there will be two rounds of data collection. The first round will consist of collecting both the mental and physical health data. The second round, approximately 6-8 months later, will consist of collecting the mental health and medical history surveys only.

During the first round, letters will be sent to officers who participated in the previous BCOPS study asking them to voluntarily participate in this study. Once they agree, a letter of introduction will be sent. If an officer hasn't responded after two letters have been sent, UB will contact the officers by phone. If the officer declines to participate they will no longer be contacted. For officers who agree to participate, UB will coordinate the scheduling of officers with the police department and will not schedule officers more than one month in advance. Scheduling will be flexible.

At their designated appointment, all participants will complete the paper and pencil questionnaires then complete the clinical exam, which will entail a fasting blood draw (approximately four tablespoons), measuring the participants' height, weight, abdominal height, waist circumference and neck circumference, and taking their blood pressure.

Cortisol saliva testing will be done outside of the clinic at the participant's residence by the participant. Participants will be provided with Salivettes (Sarstedt, USA), a commercially available collection device consisting of dental rolls and centrifuge tubes, to take with them when the leave the clinic for the collection of saliva samples. Participants will be given instructions on how to collect the samples to be taken the day after they leave the clinic. The participant will be asked to return the saliva samples to the clinic when completed either in person or via paid postage. This ends the clinic visit. UB will advise the participant upon departing during round one that they would like to contact them again in 6-8 months to complete the same surveys they did in the clinic.

For the second round, UB will conduct a follow-up survey approximately 6-8 months after the clinic visit. Each officer who participated in the first round and who agreed to participate in the second round, will be sent the same set of psychological surveys, the medical history questionnaire, and a follow-up COVID questionnaire. The psychological surveys will be the same surveys they did during the first round, while the COVID questionnaire asks additional questions related to their experience with COVID since the clinic visit. They will not be asked to complete the personal history questionnaire the second time. This second set of questionnaires allows NIOSH to meet the study aims.

The Burden Table lists the estimated population size of 200 police officers who will respond to 16 psychosocial questionnaires, serological (blood) collection, and salivary cortisol at the first round. All officers who participate in the first round and who have agreed, will be mailed the medical history questionnaire and psychosocial questionnaires 6-8 months later (second round). Biological samples will not be collected during the second round. We anticipate that up to 10% of the participants may not present for testing during either the first round or second round of questionnaires. Therefore, we estimate that 180 officers will complete both rounds of the data collection. The total burden hours for all surveys, serological sample collection, and salivary cortisol is 596. There are no costs to the respondents other than their time.

Estimated Annualized Burden Hours
Type of respondents | Form name | Number of respondents | Number of responses per respondent | Average burden per response (in hours)
Police officers | Letter of Invitation | 240 | 1 | 1/60
| Letter of Introduction | 200 | 1 | 7/60
| Eligibility Screening Form | 200 | 1 | 5/60
| Personal history | 180 | 1 | 2/60
| Medical history | 180 | 2 | 8/60
| Spielberger Stress Survey | 180 | 2 | 7/60
| Center for Epidemiologic Studies Depression Scale | 180 | 2 | 2/60
| Brief Cope | 180 | 2 | 3/60
| Organizational Support Scale | 180 | 2 | 2/60
| Maslach Burnout | 180 | 2 | 2/60
| Fatigue Scale | 180 | 2 | 2/60
| Posttraumatic Stress Disorder-5 | 180 | 2 | 2/60
| Connor-Davidson Resiliency Scale | 180 | 2 | 1/60
| Beck Anxiety | 180 | 2 | 3/60
| Pittsburgh Sleep Quality Index |  | 2 | 2/60
| Beck Depression | 180 | 2 | 3/60
| Beck Hopelessness | 180 | 2 | 2/60
| COVID-19 Round 1 | 180 | 1 | 3/60
| COVID-19 Round 2 | 180 | 1 | 3/60
| Civil Unrest/Public Perception/work environment | 180 | 2 | 3/60
| Serological Sample collection | 180 | 1 | 1
| Salivary Cortisol collection | 180 | 1 | 30/60

Jeffrey M. Zirger,
Lead, Information Collection Review Office, Office of Scientific Integrity, Office of Science, Centers for Disease Control and Prevention.

[FR Doc. 2021-14225 Filed 7-1-21; 8:45 am]

BILLING CODE 4163-18-P